DEPARTMENT OF HOMELAND SECURITY

Federal Emergency Management Agency

[Docket ID FEMA-2020-0002; Internal Agency Docket No. FEMA-B-2042]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Alabama:
Talladega | Unincorporated areas of Talladega County (19-04-4279P). | The Honorable Kelvin Cunningham, Chairman, Talladega County Commission, P.O. Box 6170, Talladega, AL 35161. | Talladega County Highway Department, 500 Institute Lane, Talladega, AL 35161. | https://msc.fema.gov/portal/advanceSearch. | Jul. 16, 2020 | 010297
Colorado:
Arapahoe | City of Aurora (20-08-0058P). | The Honorable Mike Coffman, Mayor, City of Aurora, 15151 East Alameda Parkway, Aurora, CO 80012. | Public Works Department, 15151 East Alameda Parkway, Aurora, CO 80012. | https://msc.fema.gov/portal/advanceSearch. | Oct. 9, 2020 | 080002
Arapahoe | Unincorporated areas of Arapahoe County (20-08-0058P). | The Honorable Nancy N. Sharpe, Chair, Arapahoe County, Board of Commissioners, 5334 South Prince Street, Littleton, CO 80120. | Arapahoe County Public Works and Development Department, 6924 South Lima Street, Centennial, CO 80112. | https://msc.fema.gov/portal/advanceSearch. | Oct. 9, 2020 | 080011
Jefferson | Unincorporated areas of Jefferson County (20-08-0630P). | The Honorable Lesley Dahlkemper, Chairman, Jefferson County Board of Commissioners, 100 Jefferson County Parkway, Suite 5550, Golden, CO 80419. | Jefferson County Department of Planning and Zoning, 100 Jefferson County Parkway, Suite 3550, Golden, CO 80419. | https://msc.fema.gov/portal/advanceSearch. | Oct. 9, 2020 | 080087
Connecticut:
New Haven | Town of Guilford (20-01-0537P). | The Honorable Matthew T. Hoey, III, First Selectman, Town of Guilford Board of Selectmen, 31 Park Street, Guilford, CT 06437. | Engineering Department, 50 Boston Street, Guilford, CT 06437. | https://msc.fema.gov/portal/advanceSearch. | Sep. 18, 2020 | 090077
New Haven | Town of Guilford (20-01-0575P). | The Honorable Matthew T. Hoey, III, First Selectman, Town of Guilford Board of Selectmen, 31 Park Street, Guilford, CT 06437. | Engineering Department, 50 Boston Street, Guilford, CT 06437. | https://msc.fema.gov/portal/advanceSearch. | Sep. 25, 2020 | 090077
Florida:
Collier | City of Marco Island (20-04-1872P). | Mr. Mike McNees, Manager, City of Marco Island, 50 Bald Eagle Drive, Marco Island, FL 34145. | Building Services Department, 50 Bald Eagle Drive, Marco Island, FL 34145. | https://msc.fema.gov/portal/advanceSearch. | Oct. 15, 2020 | 120426
Collier | City of Naples (20-04-1989P). | The Honorable Teresa L. Heitmann, Mayor, City of Naples, 735 8th Street South, Naples, FL 34102. | Building Department, 295 Riverside Circle, Naples, FL 34102. | https://msc.fema.gov/portal/advanceSearch. | Sep. 22, 2020 | 125130
Monroe | Unincorporated areas of Monroe County (20-04-2206P). | The Honorable Heather Carruthers, Mayor, Monroe County Board of Commissioners, 500 Whitehead Street, Suite 102, Key West, FL 33040. | Monroe County Building Department, 2798 Overseas Highway, Suite 300, Marathon, FL 33050. | https://msc.fema.gov/portal/advanceSearch. | Oct. 5, 2020 | 125129
Monroe | Unincorporated areas of Monroe County (20-04-3627P). | The Honorable Heather Carruthers, Mayor, Monroe County Board of Commissioners, 500 Whitehead Street, Suite 102, Key West, FL 33040. | Monroe County Building Department, 2798 Overseas Highway, Suite 300, Marathon, FL 33050. | https://msc.fema.gov/portal/advanceSearch. | Oct. 5, 2020 | 125129
Monroe | Unincorporated areas of Monroe County (20-04-3628P). | The Honorable Heather Carruthers, Mayor, Monroe County Board of Commissioners, 500 Whitehead Street, Suite 102, Key West, FL 33040. | Monroe County Building Department, 2798 Overseas Highway, Suite 300, Marathon, FL 33050. | https://msc.fema.gov/portal/advanceSearch. | Oct. 5, 2020 | 125129
Monroe | Unincorporated areas of Monroe County (20-04-3629P). | The Honorable Heather Carruthers, Mayor, Monroe County Board of Commissioners, 500 Whitehead Street, Suite 102, Key West, FL 33040. | Monroe County Building Department, 2798 Overseas Highway, Suite 300, Marathon, FL 33050. | https://msc.fema.gov/portal/advanceSearch. | Oct. 1, 2020 | 125129
Osceola | City of St. Cloud (19-04-5088P). | Mr. William Sturgeon, Manager, City of St. Cloud, 1300 9th Street, St. Cloud, FL 34769. | Building Department, 1300 9th Street, St. Cloud, FL 34769. | https://msc.fema.gov/portal/advanceSearch. | Oct. 13, 2020 | 120191
Osceola | Unincorporated areas of Osceola County (19-04-5088P). | The Honorable Viviana Janer, Chair, Osceola County Board of Commissioners, 1 Courthouse Square, Suite 4700, Kissimmee, FL 34741. | Osceola County Stormwater Department, 1 Courthouse Square, Suite 3100, Kissimmee, FL 34741. | https://msc.fema.gov/portal/advanceSearch. | Oct. 13, 2020 | 120189
Kentucky:
Christian | City of Hopkinsville (19-04-5960P). | The Honorable Wendell Lynch, Mayor, City of Hopkinsville, 715 South Virginia Street, Hopkinsville, KY 42240. | Community and Development Services Department, 710 South Virginia Street, Hopkinsville, KY 42240. | https://msc.fema.gov/portal/advanceSearch. | Sep. 18, 2020 | 210055
Maine:
Lincoln | Town of Boothbay Harbor (20-01-0236P). | Ms. Julia Latter, Manager, Town of Boothbay Harbor, 11 Howard Street, Boothbay Harbor, ME 04538. | Code Enforcement Department, 11 Howard Street, Boothbay Harbor, ME 04538. | https://msc.fema.gov/portal/advanceSearch. | Sep. 25, 2020 | 230213
York | Town of York (20-01-0642P). | The Honorable Todd A. Frederick, Chairman, Town of York Board of Selectmen, 186 York Street, York, ME 03909. | Planning Department, 186 York Street, York, ME 03909. | https://msc.fema.gov/portal/advanceSearch. | Oct. 13, 2020 | 230159
New Mexico:
Dona Ana | City of Sunland Park (19-06-3737P). | The Honorable Javier Perea, Mayor, City of Sunland Park, 1000 McNutt Road, Suite A, Sunland Park, NM 88063. | Community Services Department, 950 McNutt Road, Sunland Park, NM 88063. | https://msc.fema.gov/portal/advanceSearch. | Oct. 14, 2020 | 350147
North Carolina:
Wake | Town of Wake Forest (20-04-3617P). | The Honorable Vivian A. Jones, Mayor, Town of Wake Forest, 301 South Brooks Street, Wake Forest, NC 27587. | Engineering Department, 234 Friendship Chapel Road, Wake Forest, NC 27587. | https://msc.fema.gov/portal/advanceSearch. | Oct. 2, 2020 | 370244
South Carolina:
Charleston | City of Isle of Palms (20-04-2572P). | The Honorable Jimmy Carroll, Mayor, City of Isle of Palms, 1207 Palm Boulevard, Isle of Palms, SC 29451. | Building and Planning Department, 1207 Palm Boulevard, Isle of Palms, SC 29451. | https://msc.fema.gov/portal/advanceSearch. | Oct. 19, 2020 | 455416
South Dakota:
Lawrence | City of Spearfish (19-08-0882P). | The Honorable Dana Boke, Mayor, City of Spearfish, 625 North 5th Street, Spearfish, SD 57783. | Building and Development Department, 625 North 5th Street, Spearfish, SD 57783. | https://msc.fema.gov/portal/advanceSearch. | Oct. 16, 2020 | 460046
Texas:
Collin | City of Frisco (20-06-0590P). | The Honorable Jeff Cheney, Mayor, City of Frisco, 6101 Frisco Square Boulevard, Frisco, TX 75034. | Engineering Services Department, 6101 Frisco Square Boulevard, Frisco, TX 75034. | https://msc.fema.gov/portal/advanceSearch. | Sep. 28, 2020 | 480134
Collin | City of McKinney (19-06-3345P). | Mr. Paul Grimes, Manager, City of McKinney, 222 North Tennessee Street, McKinney, TX 75069. | Department of Engineering, 221 North Tennessee Street, McKinney, TX 75069. | https://msc.fema.gov/portal/advanceSearch. | Oct. 13, 2020 | 480135
Collin | Unincorporated areas of Collin County (19-06-3345P). | The Honorable Chris Hill, Collin County Judge, 2300 Bloomdale Road, Suite 4192, McKinney, TX 75071. | Collin County Engineering Department, 4690 Community Avenue, Suite 200, McKinney, TX 75071. | https://msc.fema.gov/portal/advanceSearch. | Oct. 13, 2020 | 480130
Comal | City of New Braunfels (20-06-2307P). | The Honorable Barron Casteel, Mayor, City of New Braunfels, 550 Landa Street, New Braunfels, TX 78130. | City Hall, 550 Landa Street, New Braunfels, TX 78130. | https://msc.fema.gov/portal/advanceSearch. | Oct. 5, 2020 | 485493
Comal | Unincorporated areas of Comal County (20-06-2307P). | The Honorable Sherman Krause, Comal County Judge, 100 Main Plaza, New Braunfels, TX 78130. | Comal County Engineering Department, 195 David Jonas Drive, New Braunfels, TX 78132. | https://msc.fema.gov/portal/advanceSearch. | Oct. 5, 2020 | 485463
Guadalupe | City of Cibolo (20-06-2304P). | The Honorable Stosh Boyle, Mayor, City of Cibolo, P.O. Box 826, Cibolo, TX 78108. | City Hall, 200 South Main Street, Cibolo, TX 78108. | https://msc.fema.gov/portal/advanceSearch. | Oct. 8, 2020 | 480267
Parker | City of Willow Park (20-06-0011P). | The Honorable Doyle Moss, Mayor, City of Willow Park, 516 Ranch House Road, Willow Park, TX 76087. | City Hall, 516 Ranch House Road, Willow Park, TX 76087. | https://msc.fema.gov/portal/advanceSearch. | Oct. 7, 2020 | 481164
Tarrant | City of Arlington (19-06-3156P). | The Honorable Jeff Williams, Mayor, City of Arlington, P.O. Box 90231, Arlington, TX 76004. | City Hall, 101 West Abram Street, Arlington, TX 76010. | https://msc.fema.gov/portal/advanceSearch. | Sep. 17, 2020 | 485454
Utah:
Washington | Unincorporated areas of Washington County (19-08-1063P). | The Honorable Victor Iverson, Chairman, Washington County Commission, 197 East Tabernacle Street, St. George, UT 84770. | Washington County Administration Building, 197 East Tabernacle Street, St. George, UT 84770. | https://msc.fema.gov/portal/advanceSearch. | Oct. 15 2020 | 490224

[FR Doc. 2020-14893 Filed 7-9-20; 8:45 am]

BILLING CODE 9110-12-P